DEPARTMENT OF TRANSPORTATION

Pipeline and Hazardous Materials Safety Administration

[Docket No. PHMSA-2014-0033, Notice No. 14-3]

International Standards on the Transport of Dangerous Goods

AGENCY: Pipeline and Hazardous Materials Safety Administration (PHMSA), DOT.

ACTION: Notice of public meeting.

SUMMARY: This notice is to advise interested persons that on Wednesday, June 11, 2014, PHMSA will conduct a public meeting to discuss proposals in preparation for the 45th session of the United Nations Sub-Committee of Experts on the Transport of Dangerous Goods (UNSCOE TDG) to be held June 23 to July 2, 2014, in Geneva, Switzerland. During the public meeting, PHMSA is also soliciting comments relative to potential new work items which may be considered for inclusion in its international agenda.

Also, on Wednesday, June 11, 2014, the Department of Labor, Occupational Safety and Health Administartion (OSHA) will conduct a public meeting (See Docket No. OSHA-H022k-2006-0062) to discuss proposals in preparation for the 27th session of the United Nations Sub-Committee of Experts on the Globally Harmonized System of Classification and Labelling of Chemicals (UNSCEGHS) to be held July 2 to 4, 2014, in Geneva, Switzerland.

DATES: Wednesday, June 11, 2014.

ADDRESSES: Both meetings will be held at the DOT Headquarters Conference Center, West Building, 1200 New Jersey Avenue SE., Washington, DC 20590.

Time and Location: PHMSA public meeting: 8:30 a.m. to 11:30 a.m. EDT, Oklahoma Room.

OSHA public meeting: 1:00 p.m. to 4:00 p.m. EDT, Conference Room 3.

Registration: It is requested that attendees pre-register for these meetings by completing the form at https://www.surveymonkey.com/s/PNCPBQD. Attendees may use the form to pre-register for the PHMSA meeting, the OSHA meeting, or both meetings. Failure to pre-register may delay your access to the DOT building. Participants attending in person are encouraged to arrive early to allow time for security checks necessary to obtain access to the building.

Conference call-in and “live meeting” capability will be provided for both meetings. Specific information on call-in and live meeting access will be posted when available at http://www.phmsa.dot.gov/hazmat/regs/international and at http://www.osha.gov/dsg/hazcom/.

FOR FURTHER INFORMATION CONTACT: Vincent Babich or Steven Webb, Office of Hazardous Materials Safety, International Standards, Department of Transportation, Washington, DC 20590; telephone (202) 366-8553.

Supplementary Information on the PHMSA Meeting: The primary purpose of PHMSA's meeting will be to prepare for the 45th session of the UNSCOE TDG. The 45th session of the UNSCOE TDG is the third of four meetings scheduled for the 2013-2014 biennium. The UNSCOE will consider proposals for the 19th Revised Edition of the United Nations Recommendations on the Transport of Dangerous Goods Model Regulations which will be implemented within relevant domestic, regional, and international regulations from January 1, 2017. Copies of working documents, informal documents, and the meeting agenda may be obtained from the United Nations Transport Division's Web site at http://www.unece.org/trans/main/dgdb/dgsubc3/c3age.html.

General topics on the agenda for the UNSCOE TDG meeting include:

• Explosives and related matters

• Global harmonization of transport of dangerous goods regulations

• Listing, classification and packing

• Electric storage systems

• Transport of gases

• Miscellaneous proposals of amendments to the Model Regulations

• Electronic data interchange for documentation purposes

• Cooperation with the International Atomic Energy Agency (IAEA)

• Guiding principles for the Model Regulations

• Globally Harmonized System of Classification and Labeling of Chemicals (GHS)

Following the 45th session of the UNSCOE TDG, a copy of the Sub-Committee's report will be available at the United Nations Transport Division's Web site at http://www.unece.org/trans/main/dgdb/dgsubc3/c3rep.html. PHMSA's Web site at http://www.phmsa.dot.gov/hazmat/regs/international provides additional information regarding the UNSCOE TDG and related matters.

Supplementary Information on the OSHA Meeting: The Federal Register notice and additional detailed information relating to OSHA's public meeting will be available upon publication at http://www.regulations.gov (Docket No. OSHA-H022k-2006-0062) and on the OSHA Web site at http://www.osha.gov/dsg/hazcom/.

Signed at Washington, DC, on May 21, 2014.
Magdy El-Sibaie,
Associate Administrator for Hazardous Materials Safety.

[FR Doc. 2014-12238 Filed 5-27-14; 8:45 am]

BILLING CODE 4910-60-P